FEDERAL MINE SAFETY AND HEALTH REVIEW COMMISSION

Sunshine Act; Meeting

March 18, 2010.

Time and Date: 10 a.m., Wednesday, April 7, 2010.

Place: The Richard V. Backley Hearing Room, 9th Floor, 601 New Jersey Avenue, NW., Washington, DC.

Status: Open.

Matters to be Considered: The Commission will consider and act upon the following in open session: Secretary of Labor v. Eastern Associated Coal Corporation, Docket No. WEVA 2007-335. (Issues include whether certain violations of roof control requirements constituted an “unwarrantable failure to comply.”)

Any person attending this meeting who requires special accessibility features and/or auxiliary aids, such as sign language interpreters, must inform the Commission in advance of those needs. Subject to 29 CFR 2706.150(a)(3) and 2706.160(d).

Contact Person for More Info: Jean Ellen (202) 434-9950/(202) 708-9300 for TDD Relay/1-800-877-8339 for toll free.

Jean H. Ellen,
Chief Docket Clerk.

[FR Doc. 2010-6891 Filed 3-24-10; 4:15 pm]

BILLING CODE 6735-01-P